DEPARTMENT OF HEALTH AND HUMAN SERVICES

Centers for Disease Control and Prevention

[FOA IP07-006]

Disease, Disability, and Injury Prevention and Control Special Emphasis Panel: Economic Studies of Vaccines and Immunization Policies, Programs, and Practices, Funding Opportunity Announcement (FOA) IP07-013, and Costs Medical Practices Incur Ordering, Storing, and Delivering Vaccines to Adult Patients: Does Reimbursement Cover Costs?

In accordance with section 10(a)(2) of the Federal Advisory Committee Act (Pub. L. 92-463), the Centers for Disease Control and Prevention (CDC) announces a meeting of the aforementioned Special Emphasis Panel.

Time and Date: 12 p.m.-4 p.m., June 14, 2007 (Closed).

Place: Teleconference.

Status: The meeting will be closed to the public in accordance with provisions set forth in section 552b(c)(4) and (6), Title 5 U.S.C., and the Determination of the Director, Management Analysis and Services Office, CDC, pursuant to Public Law 92-463.

Matters To Be Discussed: The meeting will include the review, discussion, and evaluation of research grant applications in response to FOA IP07-013, “Economic Studies of Vaccines and Immunization Policies, Programs, and Practices”, and FOA IP07-006, “Costs Medical Practices Incur Ordering, Storing, and Delivering Vaccines to Adult Patients: Does Reimbursement Cover Costs?”.

Contact Person for More Information: Trudy Messmer, Ph.D., Designated Federal Official, 1600 Clifton Road, Mailstop C-19, Atlanta, GA 30333, telephone (404) 639-2176.

The Director, Management Analysis and Services Office, has been delegated the authority to sign Federal Register notices pertaining to announcements of meetings and other committee management activities, for both CDC and the Agency for Toxic Substances and Disease Registry.

Dated: May 15, 2007.
Elaine L. Baker,
Acting Director, Management Analysis and Services Office, Centers for Disease Control and Prevention.

[FR Doc. E7-9794 Filed 5-21-07; 8:45 am]

BILLING CODE 4163-18-P